FEDERAL RESERVE SYSTEM

Change in Bank Control Notices; Formations of, Acquisitions by, and Mergers of Bank Holding Companies; Correction

This notice corrects a notice (FR Doc. 28433) published on page 71785 of the issue for Wednesday, December 3, 2014.

Under the Federal Reserve Bank of St. Louis heading, the entry for Bryon B. Webb, III, Emden, Missouri, as trustee of the Byron B. Webb, III Separate Property Revocable Trust, dated April 26, 2004, and Victoria Webb Sack, Del Mar, California, as trustee of the Victoria Webb Sack Separate Property Revocable Trust, dated June 12, 2008, is revised to read as follows:

A. Federal Reserve Bank of St. Louis (Yvonne Sparks, Community Development Officer) P.O. Box 442, St. Louis, Missouri 63166-2034:

1. Bryon B. Webb, III, Emden, Missouri, as trustee of the Byron B. Webb, III Separate Property Revocable Trust, dated April 26, 2004, and Victoria Webb Sack, Del Mar, California, as trustee of the Victoria Webb Sack Separate Property Revocable Trust, dated June 12, 2008, individually and as members of a family control group; to retain and acquire additional voting shares of Byron B. Webb, Inc., and thereby indirectly retain and acquire additional voting shares of Homebank, both in Palmyra, Missouri.

Comments on this application must be received by December 15, 2014.

Board of Governors of the Federal Reserve System, December 8, 2014.
Michael J. Lewandowski,
Associate Secretary of the Board.

[FR Doc. 2014-29043 Filed 12-10-14; 8:45 am]

BILLING CODE 6210-01-P